DEPARTMENT OF THE INTERIOR

Bureau of Land Management

[CO-923-1430-ET; COC-28707]

Public Land Order No. 7631; Revocation of Secretarial Order Dated May 27, 1929; Colorado

AGENCY: Bureau of Land Management, Interior.

ACTION: Public land order.

SUMMARY: This order revokes a Secretarial Order in its entirety as it affects 9 acres of public land withdrawn for the Bureau of Land Management's Power Site Classification No. 229. This order also opens the land to surface entry subject to valid existing rights and other segregations of record.

EFFECTIVE DATE: July 25, 2005.

FOR FURTHER INFORMATION CONTACT: Doris E. Chelius, BLM Colorado State Office, 2850 Youngfield Street, Lakewood, Colorado 80215-7093, 303-239-3706.

SUPPEMENTARY INFORMATION: This action will allow for the completion of a pending land exchange and clear the records of an unneeded withdrawal. The land is open to mining under the provisions of the Mining Claims Rights Restoration Act, 30 U.S.C. 621 (2000). Since this act applies only to land withdrawn for power purposes, the provisions of the act are no longer applicable to the land included in this revocation order.

Order

By virtue of the authority vested in the Secretary of the Interior by Section 204 of the Federal Land Policy and Management Act of 1976, 43 U.S.C. 1714 (2000), and pursuant to the determination by the Federal Energy Regulatory Commission in DA-10000, it is ordered as follows:

1. The Secretarial Order dated May 27, 1929, which established the Bureau of Land Management's Power Site Classification No. 229, is hereby revoked in its entirety:

Sixth Principal Meridian

T. 4 N., R. 85 W.,

Sec. 17, lot 8;

Sec. 20, lots 3 and 6.

A 100-foot wide strip across the above described land comprising approximately 9 acres in Routt County.

2. At 9 a.m. on July 25, 2005, the land described in Paragraph 1, will be opened to the operation of the public land laws generally, subject to valid existing rights, the provisions of existing withdrawals, other segregations of record, and the requirements of applicable law. All valid applications received on or prior to 9 a.m. on July 25, 2005, shall be considered as simultaneously filed at that time. Those received thereafter shall be considered in the order of filing.

3. The State of Colorado, with respect to the lands described in Paragraph 1, has a preference right for public highway rights-of-way or material sites until July 25, 2005, and any location, entry, selection, or subsequent patent shall be subject to any rights granted the State as provided by the Act of June 10, 1920, Section 24, as amended, 16 U.S.C. 818 (2000).

4. The land described in Paragraph 1 has been open to mining under the provisions of the Mining Claims Rights Restoration Act of 1955, 65 Stat. 682; 30 U.S.C. 621 (2000), and these provisions are no longer applicable.

Dated: April 1, 2005.
Rebecca W. Watson,
Assistant Secretary—Land and Minerals Management.

[FR Doc. 05-8150 Filed 4-22-05; 8:45 am]

BILLING CODE 4310-JB-P